DEPARTMENT OF LABOR

Employment and Training Administration

[NAFTA-05148]

Plasticsource, Inc., Kelly Staff Leasing, Kelly Services, Inc., El Paso, TX; Amended Certification Regarding Eligibility To Apply for Worker Adjustment Assistance

In accordance with Section 250(A), Subchapter D, Chapter 2, Title II of the Trade Act of 1974 (19 U.S.C. 2273), the Department of Labor issued a Certification Regarding Eligibility to Apply for NAFTA Transitional Adjustment Assistance on September 24, 2001, applicable to workers of PlasticSource, Inc., including workers of Kelly Staff Leasing, El Paso, Texas. The notice was published in the Federal Register on October 11, 2001 (66 FR 51974).

At the request of the State agency, the Department reviewed the certification for workers of the subject firm. Information provided by the State shows that leased employees of Kelly Services, Inc. were also employed at PlasticSource, Inc. to produce headlamp parts and vacuum cleaner parts at the El Paso, Texas location of the subject firm.

Worker separations occurred at Kelly Services, Inc. as a result of worker separations at PlasticSource, Inc. El Paso, Texas.

Based on these findings, the Department is amending the certification to include workers of Kelly Service, Inc. employed at PlasticSource, Inc., El Paso, Texas.

The intent of the Department's certification is to include all workers of PlasticSource, Inc., El Paso, Texas adversely affected by declines in sales, production and employment and increased customer imports of headlamp parts and vacuum cleaner parts from Mexico.

The amended notice applicable to NAFTA—5148 is hereby issued as follows:

All workers of PlasticSource, Inc., El Paso, Texas, including workers of Kelly Staff Leasing and Kelly Services, Inc. producing headlamp parts and vacuum cleaner parts at PlasticSource, Inc., El Paso, Texas who became totally or partially separated from employment on or after July 26, 2000, through September 24, 2003, are eligible to apply for NAFTA-TAA under Section 250 of the Trade Act of 1974.

Signed at Washington, DC, this 15th day of April, 2002.
Linda G. Poole,
Certifying Officer, Division of Trade Adjustment Assistance.

[FR Doc. 02-12402 Filed 5-16-02; 8:45 am]

BILLING CODE 4510-30-M